DEPARTMENT OF DEFENSE

Defense Acquisition Regulations System

[Docket Number DARS-2019-0057]

Information Collection Requirement; Defense Federal Acquisition Regulation Supplement (DFARS); Rights in Technical Data and Computer Software; Submission for OMB Review; Comment Request

AGENCY: Defense Acquisition Regulations System; Department of Defense (DoD).

ACTION: Notice.

SUMMARY: The Defense Acquisition Regulations System has submitted to the Office of Management and Budget (OMB) for clearance the following proposed extension of a collection of information under the provisions of the Paperwork Reduction Act.

DATES: Consideration will be given to all comments received by December 2, 2019.

SUPPLEMENTARY INFORMATION:

Title and OMB Number: Defense Federal Acquisition Regulation Supplement (DFARS) Subpart 227.71, Rights in Technical Data, and Subpart 227.72, Rights in Computer Software and Computer Software Documentation, and related provisions and clauses of the Defense Federal Acquisition Regulation Supplement (DFARS); OMB Control Number 0704-0369.

Affected Public: Businesses or other for-profit and not-for-profit institutions.

Respondent's Obligation: Required to obtain or retain benefits.

Reporting Frequency: On occasion.

Type of Request: Extension.

Number of Respondents: 75,250.

Responses per Respondent: 13, approximately.

Annual Responses: 959,602.

Average Burden per Response: 1 hour, approximately.

Annual Response Burden Hours: 904,574.

Annual Recordkeeping Burden Hours: 90,600.

Total Annual Burden Hours: 995,174.

Needs and Uses: DFARS subparts 227.71 and 227.72 prescribe the use of solicitation provisions and contract clauses containing information collection requirements that are associated with rights in technical data and computer software. DoD needs this information to implement 10 U.S.C. 2320, Rights in technical data, and 10 U.S.C. 2321, Validation of proprietary data restrictions. DoD uses the information to recognize and protect contractor rights in technical data and computer software that are associated with privately funded developments; and to ensure that technical data delivered under a contract are complete and accurate and satisfy contract requirements.

Comments and recommendations on the proposed information collection should be sent to Ms. Jasmeet Seehra, DoD Desk Officer, at Oira_submission@omb.eop.gov. Please identify the proposed information collection by DoD Desk Officer and the Docket ID number and title of the information collection.

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer Lee Hawes,
Regulatory Control Officer, Defense Acquisition Regulations System.

[FR Doc. 2019-23814 Filed 10-30-19; 8:45 am]

BILLING CODE 5001-06-P